DEPARTMENT OF THE INTERIOR

Bureau of Indian Affairs

[178A2100DD/AAKC001030/A0A501010.999900 253G]

Final Environmental Impact Statement and a Revised Draft Conformity Determination for the Proposed Wilton Rancheria Fee-to-Trust and Casino Project, Sacramento County, California

AGENCY: Bureau of Indian Affairs, Interior.

ACTION: Notice.

SUMMARY: This notice advises the public that the Bureau of Indian Affairs (BIA) as lead agency, with the Wilton Rancheria (Tribe), City of Galt, City of Elk Grove, Sacramento County (County), and the United States Environmental Protection Agency (EPA) serving as cooperating agencies, has prepared a Final Environmental Impact Statement (FEIS) for the Wilton Rancheria Fee-to-Trust and Casino Project, Sacramento County, California, pursuant to the National Environmental Policy Act (NEPA) of 1969, as amended. This notice announces that the FEIS is now available for public review. In accordance with Section 176 of the Clean Air Act and EPA's general conformity regulations, a Revised Draft Conformity Determination (DCD) also has been prepared for the proposed project.

DATES: The BIA will issue a Record of Decision (ROD) on the proposed action no sooner than 30 days after the date EPA publishes its Notice of Availability in the Federal Register. The BIA must receive any comments on the FEIS on or before that date.

ADDRESSES: The FEIS is available for public review at the Galt Branch of the Sacramento Public Library, located at 1000 Caroline Ave., Galt, California 95632, and the Elk Grove Branch of the Sacramento Public Library, located at 8900 Elk Grove Blvd., Elk Grove, California 95624, and online at http://www.wiltoneis.com. You may mail or hand-deliver written comments to Ms. Amy Dutschke, Pacific Regional Director, Bureau of Indian Affairs, 2800 Cottage Way, Sacramento, California 95825. You may also submit comments through email to Mr. John Rydzik, Chief, Division of Environmental, Cultural Resource Management and Safety, Bureau of Indian Affairs, at john.rydzik@bia.gov.

FOR FURTHER INFORMATION CONTACT: Mr. John Rydzik, Bureau of Indian Affairs, Pacific Regional Office, 2800 Cottage Way, Sacramento, California 95825, (916) 978-6051.

SUPPLEMENTARY INFORMATION: The Tribe has requested that BIA take into trust approximately 36 acres of land (known as the Elk Grove Mall site) currently in fee, on which the Tribe proposes to construct a casino, hotel, parking area, and other ancillary facilities (Proposed Project). The proposed fee-to-trust property is located within the incorporated boundaries of the City of Elk Grove in Sacramento County, California.

The Draft Environmental Impact Statement (DEIS) identified Alternative A, located on the 282-acre Twin Cities site, as the Proposed Action that would allow for the development of the Tribe's proposed casino/hotel project; however, after evaluating all alternatives in the Draft EIS, BIA has now selected Alternative F, located on the Elk Grove Mall Site, as its Preferred Alternative to allow for the Tribe's Proposed Project. Since the DEIS was published, the Elk Grove Mall site increased by approximately eight acres, from approximately 28 to 36 acres. The additional eight acres consists of developed and disturbed land similar to the original 28 acres and was added due to parcel configuration and redesigned interior circulation. In addition, Alternative F project components have been revised in the FEIS from their discussion in the DEIS. The total square footage of the proposed facility has decreased approximately 2,299 square feet, from 611,055 square feet to 608,756 square feet. Some components have also changed, such as restaurant types, and a three-story parking garage has been added. However, gaming floor square footage has remained the same. These changes do not impact the conclusions of the EIS. The Final EIS was updated accordingly.

The Proposed Action consists of transferring the approximately 36 acres of property and the subsequent development of the Proposed Project. The Proposed Project would contain approximately 110,260 square-feet (sf) of gaming floor area, a 12-story hotel with approximately 302 guest rooms, a 360-seat buffet, 60-seat pool grill, other food and beverage providers, retail area, a fitness center, spa, and an approximately 48,000 sf convention center. Access to the Mall site would be provided via an existing driveway and a new driveway located along Promenade Parkway.

The following alternatives are considered in the FEIS: Alternative A—Proposed Twin Cities Casino Resort; Alternative B—Reduced Twin Cities Casino; Alternative C—Retail on the Twin Cities Site; Alternative D—Casino Resort at Historic Rancheria Site; Alternative E—Reduced Intensity Casino at Historic Rancheria Site; Alternative F—Casino Resort at Mall Site; and Alternative G—No Action.

Alternative F has been identified as the Preferred Alternative, as discussed in the FEIS. The information and analysis contained in the FEIS, as well as its evaluation and assessment of the Preferred Alternative, are intended to assist the Department of the Interior (Department) in its review of the issues presented in the fee-to-trust application. The Preferred Alternative does not reflect the Department's final decision because the Department must further evaluate all of the criteria listed in 25 CFR part 151 and 25 CFR part 292. The Department's consideration and analysis of the applicable regulations may lead to a final decision that selects an alternative other than the Preferred Alternative, including no action, or a variant of the Preferred or another of the alternatives analyzed in the FEIS.

Environmental issues addressed in the FEIS include geology and soils, water resources, air quality, biological resources, cultural and paleontological resources, socioeconomic conditions (including environmental justice), transportation and circulation, land use, public services, noise, hazardous materials, aesthetics, cumulative effects, and indirect and growth inducing effects.

Section 176 of the Clean Air Act, 42 U.S.C. 7506, requires Federal agencies to ensure that their actions conform to applicable implementation plans for achieving and maintaining the National Ambient Air Quality Standards for criteria air pollutants. The BIA has prepared a Revised DCD for the proposed action/project described above. The Revised DCD is included as Revised Appendix T of the FEIS.

A public scoping meeting for the DEIS was held by BIA on December 19, 2013 at the Chabolla Community Center in Galt, California. A Notice of Availability for the Draft EIS was published in the Federal Register on January 15, 2016 (81 FR 2214), and announced a review period that ended on February 29, 2016. The BIA held a public hearing on the Draft EIS on January 29, 2016 in Galt, California.

Directions for Submitting Comments: Please include your name, return address, and the caption: “FEIS Comments, Wilton Rancheria Fee-to-Trust and Casino Project,” on the first page of your written comments. If emailing comments, please use “FEIS Comments, Wilton Rancheria Fee-to-Trust and Casino Project” as the subject of your email.

Locations Where the FEIS Is Available for Review: The FEIS is available for review during regular business hours at the BIA Pacific Regional Office and the Galt and Elk Grove Branches of the Sacramento Public Library at the addresses noted above in the ADDRESSES section of this notice. The FEIS is also available online at http://www.wiltoneis.com.

To obtain a compact disc copy of the FEIS, please provide your name and address in writing or by voicemail to Mr. John Rydzik, Bureau of Indian Affairs, at the address or phone number above in the FOR FURTHER INFORMATION CONTACT section of this notice. Individual paper copies of the DEIS will be provided upon payment of applicable printing expenses by the requestor for the number of copies requested.

Public Comment Availability: Comments, including names and addresses of respondents, will be available for public review during regular business hours at the BIA mailing address shown in the ADDRESSES section of this notice. Before including your address, telephone number, email address, or other personal identifying information in your comment, you should be aware that your entire comment—including your personal identifying information—may be made publicly available at any time. While you can ask us in your comment to withhold your personal identifying information from public review, we cannot guarantee that we will be able to do so.

Authority: This notice is published pursuant to Sections 1503.1 and 1506.6(b) of the Council of Environmental Quality Regulations (40 CFR parts 1500 through 1508) implementing the procedural requirements of the NEPA (42 U.S.C. 4321, et seq.), the Department of the Interior NEPA Regulations (43 CFR part 46), and is in the exercise of authority delegated to the Assistant Secretary—Indian Affairs by 209 DM 8. This notice is also published in accordance with Federal general conformity regulations (40 CFR part 93, subpart B).

Dated: December 8, 2016.
Lawrence S. Roberts,
Principal Deputy Assistant Secretary—Indian Affairs.

[FR Doc. 2016-29991 Filed 12-13-16; 8:45 am]

BILLING CODE 4337-15-P